DEPARTMENT OF ENERGY

Federal Energy Regulatory Commission

[Docket No. CP99-163-000, CP99-165-000 and CP99-166-000]

Questar Southern Trails Pipeline Company; Notice of Meeting

February 3, 2000.

Take notice that a meeting will be held in the above-docketed proceedings on Thursday, February 24, 2000, at 10: a.m., in a room to be designated at the offices of the Federal Energy Regulatory Commission, 888 First Street, NE, Washington, DC 20426. The purpose of the meeting is to clarify and ascertain additional information regarding Questar Line 90 Company's request of November 9, 1999, for an opinion from the General Counsel that certain prospective salvage activities related to Line 90 Company's oil pipeline purchased from ARCO Pipe Line Company are nonjurisdictional and will not require prior certificate authorization. Line 90 Company is also concerned that these activities will not prejudice Questar Southern Trails Pipeline Company's pending certificate application in Docket No. CP99-163-000 et al. to acquire (from Line 90 Company), convert, and operate the heretofore oil pipeline for the transportation of natural gas in interstate commerce.

Specifically, all of the parties should be prepared for a discussion on the following questions, among others, relating to the requested General Counsel interpretation:

What are the specific activities to be undertaken by Line 90 Company with respect to the oil pipeline and why? Identify specific equipment/facilities.

Would the specific activities, including removal of facilities and equipment, be undertaken regardless of whether the conversion of the oil pipeline to natural gas was planned?

What are the “environmental remediation obligations” of ARCO with respect to the subject pipeline, and what is the reason for and nature of Line 90 Company's involvement in such measures? What is ARCO's schedule for all remaining activities associated with the oil pipeline?

Any party, as defined in 18 CFR 385.214, and any participant, as defined in 18 CFR 385.102(b), in the above-captioned proceedings are invited to participate in the meeting. However, no topics other than those pertaining to the requested General Counsel opinion will be considered. For additional information, please contact Dennis Vasapoli (202) 208-0461 or Robert Christin (202) 208-1022, at the Commission.

David P. Boergers,
Secretary.

[FR Doc. 00-2887 Filed 2-8-00; 8:45 am]

BILLING CODE 6717-01-M